DEPARTMENT OF AGRICULTURE

Office of the Secretary

Electronic Submission of Export Sales Reporting Requirements

AGENCY: Foreign Agricultural Service, USDA.

ACTION: Notice and request for comments.

SUMMARY: In accordance with the Paperwork Reduction Act of 1995, this notice announces that the Foreign Agriculture Service (FAS) is developing procedures to permit electronic submission of the currently approved information collection for commodities subject to the Export Sales Reporting Requirements Regulation (7 CFR part 20). Electronic submission of the information collection will be implemented first for fresh, chilled, and frozen muscle cuts of beef, and by marketing year 2003 extended to all commodities subject to 7 CFR part 20.

DATES: Comments on this notice should be received on or before November 13, 2001 to be assured of consideration.

ADDRESSES: Mail or deliver comments to Denise Huttenlocker, Director, Marketing Operations Staff, Foreign Agricultural Service, U.S. Department of Agriculture, 1400 Independence Ave., SW., Stop 1042, Washington, DC 20250-1042, or telephone at 202-720-4327, or e-mail at mosadmin@fas.usda.gov.

FOR FURTHER INFORMATION CONTACT: Denise Huttenlocker, at the address above, or telephone at (202) 720-4327, or e-mail at HuttenlockerD@fas.usda.gov.

SUPPLEMENTARY INFORMATION:

Title: Export Sales of U.S. Agricultural Commodities.

OMB Number: 0551-0007.

Expiration Date of Approval: July 31, 2004.

Type of Request: Public comments on electronic submission of a currently approved information collection.

Abstract: Section 602 of the Agricultural Trade Act of 1978, as amended (7 U.S.C. 5712) requires mandatory reporting of export sales contracts for specified U.S. produced agricultural commodities. The Department's Export Sales Reporting Program is administered by FAS in accordance with 7 CFR part 20. The Agricultural Trade Act of 1978 was amended by section 921 of Pub. L. 106-78 (the Agriculture, Rural Development, Food and Drug Administration, and Related Agencies Appropriations Act, 2000) to require weekly export sales reporting for beef. Section 913(b)(1) of Pub. L. 106-78 requires implementation of an electronic system for reporting this commodity. FAS published a final rule (66 FR 38526-38528) to amend 7 CFR part 20 to add fresh, chilled, and forzen muscle cuts of beef to the weekly reporting requirements. The final rule stated that prior to the establishment of an electronic reporting system, the Department would solicit public comments on the electronic forms developed for export sales reports for fresh, chilled, and frozen muscle cuts of beef. In addition, since FAS intends to provide exporters the opportunity to submit export sales reports electronically for all commodities subject to the Regulation, public comments are also being requested from exporters of these commodities. The system should be fully automated by marketing year 2003. All public comments received will be considered prior to implementation of an electronic reporting system.

Required Weekly Reporting

U.S. exporters are required to report to the FAS Export Sales Reporting staff certain information pertaining to export sales of a reportable commodity. Data reported is aggregated and released on a weekly basis reflecting the “outstanding commitments” of the specified commodities for export. New outstanding quantities are established each week by adding any new export sales activity to the previous week's outstanding balances and substracting the current week's shipments plus downward or upward contract adjustments. Although this is not official U.S. trade data, it is widely used as an early indicator of sales and export activity and is available the week following the week of reporting. The data is published in compilation form to protect business confidential information submitted.

Currently Approved Forms (Hard Copy) for all Commodities

(1) Weekly export sales and shipment activities are submitted by the reporting exporter using the form FAS-98 Rev. 9-98, “Report of Export Sales and Exports”.

(2) For the limited sales, identified as optional origin sales, the reporting exporter uses the form FAS-97 Rev. 9-98, “Report of Optional Origin Sales”.

(3) For activity involving commodities that have been shipped from the U.S., but are unsold or have not been allocated to an existing sales contract, the reporting exporter uses the form FAS-100 Rev. 9-98, “Report of Exports for Exporter's Own Account”.

(4) Quarterly reports providing selected data on individual sales contracts are submitted using the form FAS-99 Rev. 9-98, “Contract Terms Supporting Export Sales and Foreign Purchases”. The total outstanding contracts identified on the quarterly report are used as a check to ensure exporters have included all sales activity on their weekly “FAS-98” reports.

Proposed Electronic Forms for Reporting Export Sales of Certain Beef and all Other Reportable Commodities

The Department is requesting comments on electronic submission of export sales data. The electronic reporting system would be accessed via a secured Internet website using the reporting exporter's personal computer, office computer, or existing electronic recordkeeping system. Reporting exporters will be assigned a confidential firm number and unique password by the Export Sales Reporting staff which will be used to log into the electronic reporting website. FAS will utilize a program developed to collect and manage data received from exporters which will ensure security of data transmission and storage, and confidentiality of information that is maintained by FAS.

The electronic reporting system will consist of a menu with six selections. Three of the selections will be data entry forms to report sales data, and the other three selections will be reference forms to allow a reporting exporter to review data that has been submitted previously.

Data Entry Forms: The following three forms for data entry will allow a reporting exporter to submit data for export sales for the current reporting period:

(1) FAS-97e “Report of Optional Origin Sales”. This form requires submission of the same data as required by OMB approved (hard copy) form FAS-97 Rev. 9-98.

(2) FAS-98e “Report of Export Sales and Exports”. This form requires submission of the same data as required by OMB approved (hard copy) form FAS-98 Rev. 9-98.

(3) FAS-100e “Report of Exports for Exporter's Own Account”. This form requires submission of the same data as required by OMB approved (hard copy) form FAS-100 Rev. 9-98.

After all data is entered on these forms, the person entering the data will click on the box at the bottom of the form titled “SUBMIT”. This will transmit the completed form to FAS. If a submission transmitted to FAS contains any mathematical errors, or incomplete entries, an “ERROR” message will appear on the computer screen identifying information that needs to be corrected or needs to be entered before resubmission.

Electronic entries may be submitted to FAS beginning on Thursday after 5:00 pm (EST) through Monday at midnight (EST) for the prior week's activity. Reports submitted are processed and compiled into the “U.S. Export Sales” Report by the FAS Export Sales Reporting staff between Tuesday and publication on Thursday. Any changes to published data must be reported to FAS for corrective action.

Reference Forms The following three forms will be posted to the Internet for reference only. They will permit an exporter to review information and data that has been submitted electronically for a specific reporting period. No changes may be made on these forms.

(4) List of FAS-97e-Report of Optional Origin Sales Records submitted.

(5) List of FAS 98e-Report of Export Sales and Exports submitted.

(6) List of FAS-100e-Report of Exports for Exporter's Own Account Records submitted.

Alternative Proposed Electronic Method for Reporting Export Sales of Certain Beef

Certain exporters who are required to report information regarding the marketing of beef to the Agricultural marketing Service (AMS) pursuant to 7 CFR part 59 (Livestock Mandatory Reporting) will also be responsible for reporting weekly export sales to FAS for fresh, chilled, and frozen muscle cuts of beef. AMS has provided a mechanism for receiving data through submission of ASCII comma delimited files by reporting entities.

In view of this reporting option provided by AMS, exporters of certain beef reporting to FAS will have an option to e-mail a pre-defined text file containing export sales data directly to FAS. This file will contain the same data as required by OMB approved (hard copy) form FAS-98 Rev. 9-98. FAS is specifically requesting comments on the feasibility of this option and its potential use by exporters, particularly those reporting to two USDA agencies.

Copies of this information collection can be obtained from Kimberly Chisley, the Agency Information Collection Coordinator, at (202) 720-2568.

The public is invited to submit comments to the above address regarding the use of electronic submission of export sales reports for fresh, chilled, and frozen muscle cuts of beef, all other reportable commodities, or any other aspect of this collection of information. Comments are specifically invited on: ways to minimize the burden of collection on those required to respond; whether the proposed electronic submission program is sufficient for the proper performance of the required functions of FAS; and ways to enhance the quality, utility, and clarity of proposed electronic mechanisms. Comments are most useful if received within 30 days of publication of the Notice and Request for Comments, to be assured of consideration. All comments will also become a matter of public record. Persons with disabilities who require an alternative means for communication of information (Braille, large print, audiotape, etc.) should contact the USDA Target Center at (202) 720-2600 (voice and TDD).

Signed at Washington, DC, on October 3, 2001.
Mary Chambliss,
Acting Administrator, Foreign Agricultural Service.

[FR Doc. 01-25534 Filed 10-10-01; 8:45 am]

BILLING CODE 3410-10-M